DEPARTMENT OF THE INTERIOR

Bureau of Land Management

[LLCAN01100 L16100000.DO0000 16X LXSSB0220000]

Notice of Intent To Prepare a Resource Management Plan for the Redding and Arcata Field Offices and an Associated Environmental Impact Statement, California

AGENCY: Bureau of Land Management, Interior.

ACTION: Notice.

SUMMARY: In compliance with the National Environmental Policy Act of 1969, as amended (NEPA), and the Federal Land Policy and Management Act of 1976, as amended, the Bureau of Land Management (BLM) Redding and Arcata Field Offices intend to prepare a Resource Management Plan (RMP) known as the Northwest California Integrated Resource Management Plan with an associated Environmental Impact Statement (EIS). This notice announces the beginning of the scoping process to solicit public comments and identify issues. The RMP will replace the existing Redding Resource Management Plan (1993) and Arcata Resource Area Resource Management Plan (1992).

DATES: This notice initiates the public scoping process for the RMP with the associated EIS. Comments on issues may be submitted in writing until December 7, 2016 or until 15 days after the last public meeting, whichever is later. The dates and locations of scoping meetings will be announced at least 15 days in advance through local media, newspapers and the BLM Web site at: https://eplanning.blm.gov/epl-front-office/eplanning/planAndProjectSite.do?methodName=renderDefaultPlanOrProjectSite&projectId=63960. In order to be included in the Draft EIS, all comments must be received prior to the close of the 30-day scoping period or 15 days after the last public meeting, whichever is later. We will provide additional opportunities for public participation upon publication of the Draft EIS.

ADDRESSES: You may submit comments on issues and planning criteria related to the Northwest California Integrated Resource Management Plan by any of the following methods:

• Web site: http://www.blm.gov/ca/st/en/fo/redding/redding_rmp.html.

• Email: NCIP_comments@aecom.com.

• Fax: (530) 224-2172.

• Mail: NCIP Comments, Bureau of Land Management, Redding Field Office, 6640 Lockheed Drive, Redding, California 96002.

Documents pertinent to this proposal may be examined at the BLM Redding Field Office.

FOR FURTHER INFORMATION CONTACT: Lisa Grudzinski, Planning and Environmental Specialist; telephone (530) 224-2140; address Bureau of Land Management, Redding Field Office, 6640 Lockheed Drive, Redding, California 96002; email lgrudzinski@blm.gov. Contact Ms. Grudzinski to add your name to our mailing list. Persons who use a telecommunications device for the deaf (TDD) may call the Federal Relay Service at (800) 877-8339 to contact the above individual during normal business hours. The Service is available 24 hours a day, 7 days a week, to leave a message or question with the above individual. You will receive a reply during normal business hours.

SUPPLEMENTARY INFORMATION: This document provides notice that the BLM intends to prepare an RMP with an associated EIS for the Redding and Arcata Field Offices, announces the beginning of the scoping process, and seeks public input on issues and planning criteria. The planning area is located in Del Norte, Humboldt, Mendocino, Trinity, Siskiyou, Shasta, Tehama, and Butte Counties, California, and encompasses 396,000 surface acres of public land and 299,000 subsurface (mineral) acres. The purpose of the public scoping process is to determine relevant issues that will influence the scope of the environmental analysis, including but not limited to alternatives and potential expanded or new Areas of Critical Environmental Concern (ACECs). Preliminary issues for the planning area have been identified by the BLM; Federal, State, and local agencies; and other stakeholders. The issues include: Recreation; Fish and Wildlife; Soil and Water; Forestry, Livestock Grazing; Wilderness; Cultural Resources; Vegetation; ACECs and how the RMP should address the Northwest Forest Plan (USDA/USDI 1994). Preliminary planning criteria include:

1. Opportunities for public participation, which will be encouraged throughout the planning process. Increased public participation, which will also be encouraged through pre-planning and alternatives outreach.

2. Valid existing rights will be recognized and protected.

3. The BLM will work cooperatively with State and Federal agencies, Tribes, and local governments.

4. Plans and policies of adjacent conservation system units, landowners, and local governments will be considered, and RMP decisions will be consistent to the degree reasonably practical.

5. The RMP will conform to the Bureau's H-1601-1 Land Use Planning Handbook, Appendix C, Program-Specific and Resource-Specific Decision Guidance and all applicable BLM manuals and handbooks.

6. The plan will be consistent with the standards and guidance set forth in the Federal Land Policy and Management Act, National Environmental Policy Act, Council on Environmental Quality, National Historic Preservation Act, Wild and Scenic Rivers Act, Migratory Bird Treaty Act, Minerals Leasing Act, Memorandum of Understanding Among the U.S. Department of Agriculture, U.S. Department of the Interior, and U.S. Environmental Protection Agency, Regarding Air Quality Analyses and Mitigation for Federal Oil and Gas Decisions Through the National Environmental Policy Act Process, and other Federal laws, regulations and policies as required.

7. Designations for off-highway vehicles for all BLM-managed lands within the planning area will be completed according to the regulations found in 43 CFR 8342.

8. Visitor and community assessments will be conducted in compliance with the Recreation and Visitor Services Handbook to determine recreational demand and user preferences.

9. Current and potentially new special management areas, such as ACECs and Research Natural Areas (RNAs) will be considered using the criteria found in 43 CFR 1610.7-2.

10. Review and classification of waterways as eligible for inclusion in the National Wild and Scenic River (WSR) System will follow the guidance found in BLM's 6400 Manual. The BLM will review and update existing eligibility and classification inventories and make determinations on suitability or non-suitability of all eligible segments as potential additions to the National WSR System.

11. BLM will incorporate Environmental Justice (EJ) considerations in land use planning alternatives to adequately respond to EJ issues facing minority populations, low-income communities, and Native American tribes living near public lands and using public land resources.

12. The Environmental Justice analysis will employ guidance provided in H-1601-1, Appendix D, Social Science Considerations in Land Use Planning Decisions.

13. All BLM-managed lands in the planning area will be assessed for wilderness characteristics using criteria established by BLM Manual 6310. The RMP will examine options for managing lands with wilderness characteristics and determine the most appropriate land use allocations for these lands. Considering wilderness characteristics in the land use planning process may result in several outcomes, including, but not limited to: (1) Emphasizing other multiple uses as a priority over protecting wilderness characteristics; (2) emphasizing other multiple uses while applying management restrictions (conditions of use, mitigation measures) to reduce impacts to wilderness characteristics; (3) the protection of wilderness characteristics as a priority over other uses.

14. The RMP will incorporate by reference the BLM's 1998 Rangeland Health Standards and Guidelines for California and Northwestern Nevada Final EIS, Sacramento, CA.

15. Where appropriate and applicable, adaptive management principles will be incorporated as described in the Department of Interior Departmental Manual, Part 522, Chapter 1 (522 DM 1). Also as described in the Manual, “Adaptive Management: The U.S. Department of the Interior Technical Guide” (Williams, 2007) will be used as the technical basis for implementing adaptive management programs.

16. Consultation with Native American tribes will be initiated to identify and discuss management options for any sacred sites located on BLM lands within the decision area.

17. Visual resource management (VRM) classes were established as management objectives for some properties determined eligible as ACECs in the 1992/1993 RMPs. This plan will expand upon the existing designations to provide a comprehensive visual resource inventory for lands that were not included in the ACEC evaluation areas and designate VRM Classes to all BLM lands within the planning area.

18. Information will be collected to identify areas where paleontological resources are likely to occur. This will establish a baseline for future compliance with the 2009 Paleontological Resources Preservation Act.

19. Wildlife habitat management will be consistent with DOI guidance and the California Department of Fish and Wildlife objectives.

20. The RMP will allocate lands as open or closed to geothermal leasing and adopt stipulations, leasing procedures, and best management practices as described in the “Record of Decision and Resource Management Plan Amendments for Geothermal Leasing in the Western US” (Department of the Interior-Bureau of Land Management, December 2008).

The BLM is also requesting nominations of areas for ACEC designation. To be considered as a potential ACEC, an area must meet the criteria of relevance and importance as established and defined in 43 CFR 1610.7-2. Nominations must include descriptive materials, detailed maps and evidence supporting the relevance and importance of the resource or area. There are currently 17 ACECs within the planning area: Baker Cypress, Butte Creek, Deer Creek, Elder Creek, Forks of the Butte, Gilham Butte, Hawes Corner, Iaqua Butte, Jenny Creek, Lacks Creek, Manila Dunes, Red Mountain, Sacramento Island, Sacramento River Bend, Shasta and Klamath Rivers Canyon, South Fork Eel Watershed, and Swasey Drive.

You may submit comments on issues and planning criteria in writing to the BLM at any public scoping meeting, or you may submit them to the BLM using one of the methods listed in the ADDRESSES section above. To be most helpful, you should submit comments by the close of the 30-day scoping period or within 15 days after the last public meeting, whichever is later. Before including your address, phone number, email address, or other personal identifying information in your comment, you should be aware that your entire comment—including your personal identifying information—may be made publicly available at any time. While you can ask us in your comment to withhold your personal identifying information from public review, we cannot guarantee that we will be able to do so. The BLM will evaluate identified issues and will place them into one of three categories:

1. Issues to be resolved in the plan;

2. Issues to be resolved through policy or administrative action; or

3. Issues beyond the scope of this plan.

The BLM will provide an explanation in the Draft RMP/Draft EIS as to why an issue was placed in category two or three. The public is also encouraged to help identify any management questions and concerns that should be addressed in the plan. The BLM will work collaboratively with interested parties to identify the management decisions that are best suited to local, regional, and national needs and concerns.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

The BLM will use an interdisciplinary approach to develop the plan in order to consider the variety of resource issues and concerns identified. Specialists with expertise in the following disciplines will be involved in the planning process: Recreation, Fisheries, Wildlife, Vegetation, Soil, Water, Air Quality, Geology, Minerals, Forestry, Livestock Grazing, Wilderness, Cultural Resources, Tribal Relations, Ecology, Social Sciences, Economics, Wildland Fire, Fuels, and Realty.

Authority: 40 CFR 1501.7, 43 CFR 1610.2

Thomas Pogacnik,
Deputy State Director.

[FR Doc. 2016-26817 Filed 11-4-16; 8:45 am]

BILLING CODE 4310-40-P